DEPARTMENT OF ENERGY

Federal Energy Regulatory Commission

[Project No. 2088-068]

South Feather Water and Power Agency, California; Notice of Availability of the Draft Environmental Impact Statement for the South Feather Power Project and Intention To Hold Public Meetings

November 7, 2008.

In accordance with the National Environmental Policy Act of 1969 and the Federal Energy Regulatory Commission's (Commission) regulations, 18 CFR Part 380 (Order No. 486, 52 FR 47897), the Office of Energy Projects has reviewed the application for license for the South Feather Water and Power Agency's 104-megawatt South Feather Power Project (Project No. 2088), located on the South Fork Feather River (SFFR), Lost Creek, and Slate Creek, in Butte, Yuba, and Plumas counties, California and has prepared a draft Environmental Impact Statement (draft EIS) for the project. The project occupies about 1,977 acres of federal lands administered by the Plumas National Forest and 11 acres of federal lands administered by the U.S. Bureau of Land Management.

South Feather's existing project includes two storage reservoirs, three smaller reservoirs, two diversion dams, four powerhouses and various conveyance facilities and electrical transmission lines. South Feather proposes no major changes in project facilities or operations, but proposes numerous measures including increased minimum flows and improvements to recreation facilities. The project generates an average of about 498,972 megawatt-hours of energy annually.

The draft EIS contains staff's evaluations of the applicant's proposal and alternatives for relicensing the South Feather Power Project. The draft EIS documents the views of governmental agencies, non-governmental organizations, affected Indian tribes, the public, the license applicant, and Commission staff.

A copy of the draft EIS is available for review in the Commission's Public Reference Branch, Room 2A, located at 888 First Street, NE., Washington, DC 20426. The draft EIS also may be viewed on the Commission's Web site at http://www.ferc.gov under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

We invite your comments on staff's analysis contained in the draft EIS. Comments should be filed with: Kimberly D. Bose, Secretary, Federal Energy Regulatory Commission, 888 First Street, NE., Washington, DC 20426. All comments must be filed by January 6, 2009 and should reference Project No. 2088-068. Comments may be filed electronically via the Internet in lieu of paper. The Commission strongly encourages electronic filings. See 18 CFR 385.2001(a)(1)(iii) and instructions on the Commission's Web site at http://www.ferc.gov under the eLibrary link.

Anyone may intervene in this proceeding based on this draft EIS (18 CFR 380.10). You must file your request to intervene as specified above.¹ You do not need intervenor status to have your comments considered.

¹ Interventions may also be filed electronically via the Internet in lieu of paper. See the previous discussion on filing comments electronically.

In addition to or in lieu of sending written comments, you are invited to attend one or both of two public meetings that will be held to receive comments on the draft EIS. The time and location of the meeting is as follows:

Date: December 9, 2008.

Time: 7 p.m.

Place: South Feather Water and Power Agency Boardroom.

Address: 2310 Oro-Quincy Highway, Oroville, California.

Date: December 10, 2008.

Time: 10 a.m.

Place: South Feather Water and Power Agency Boardroom.

Address: 2310 Oro-Quincy Highway, Oroville, California.

At these meetings, resource agency personnel and other interested persons will have the opportunity to provide oral and written comments and recommendations regarding the draft EIS. The meeting will be recorded by a court reporter, and all statements (oral and written) will become part of the Commission's public record for the project. This meeting is posted on the Commission's calendar located at http://www.ferc.gov/EventCalendar/EventsList.aspx, along with other related information.

For further information, contact John Mudre at (202) 502-8902 or at john.mudre@ferc.gov.

Kimberly D. Bose,
Secretary.

[FR Doc. E8-27066 Filed 11-13-08; 8:45 am]

BILLING CODE 6717-01-P